DEPARTMENT OF HEALTH AND HUMAN SERVICES

Administration on Aging

Agency Information Collection Activities; Submission for OMB Review; Comment Request; State Program Report for Title III of the Older Americans Act

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by January 13, 2003.

ADDRESSES: Submit written comments on the collection of information to the Office of Information and Regulatory Affairs, OMB, New Executive Office Bldg., 725 17th St. NW., rm. 10235, Washington, DC 20503, Attn: Allison Herron Eydt, Desk Officer for AoA.

FOR FURTHER INFORMATION CONTACT: Saadia Greenberg, Office of Evaluation, Administration on Aging, Room 5607, Washington, DC 20201, (202) 357-3554.

SUPPLEMENTARY INFORMATION: In compliance with 44 U.S.C. 3507, AoA has submitted the following proposed collection of information to OMB for review and clearance.

State Program Reports provide state totals of the number of persons served for each type of service under the Older Americans Act Title III and Title VII programs as well as the number units of services provided and some characteristics of the clients. Information is also reported on expenditures for each type of service, staffing levels of state and area agencies on aging.

AoA estimates the burden of this collection of information as approximately 1 hour per state agency.

In the Federal Register of December 21, 2001 (Vol. 66, No. 246), the agency requested comments on the proposed collection of information. The comments received were numerous and very technical in nature. They will require extensive research and evaluation before implementation and have been referred to a workgroup for that purpose. As a result, we are seeking and extension on the use of the existing collection with no change at this time.

Dated: November 13, 2002.
Josefina G. Carbonell,
Assistant Secretary for Aging.

[FR Doc. 02-31477 Filed 12-12-02; 8:45 am]

BILLING CODE 4154-01-P